SECURITIES AND EXCHANGE COMMISSION

[File No. 500-1]

In the Matter of Riverdale Mining Inc., and Tresoro Mining Corp., Order of Suspension of Trading

November 12, 2015.

It appears to the Securities and Exchange Commission that there is a lack of current and accurate information concerning the securities of Riverdale Mining Inc. (CIK No. 1402357), a revoked Nevada corporation with its principal place of business listed as Toronto, Ontario, Canada, with stock quoted on OTC Link (previously, “Pink Sheets”) operated by OTC Markets Group, Inc. (“OTC Link”) under the ticker symbol RVDM, because it has not filed any periodic reports since the period ended December 31, 2012. On November 7, 2014, the Division of Corporation Finance sent Riverdale Mining a delinquency letter requesting compliance with their periodic filing obligations, but the letter was returned because of Riverdale Mining's failure to maintain a valid address on file with the Commission, as required by Commission rules (Rule 301 of Regulation S-T, 17 CFR 232.301 and Section 5.4 of EDGAR Filer Manual).

It appears to the Securities and Exchange Commission that there is a lack of current and accurate information concerning the securities of Tresoro Mining Corp. (CIK No. 1348788), a defaulted Nevada corporation with its principal place of business listed as Vancouver, British Columbia, Canada, with stock quoted on OTC Link under the ticker symbol TSOR, because it has not filed any periodic reports since the period ended November 30, 2012. On May 5, 2014, Tresoro Mining received a delinquency letter sent by the Division of Corporation Finance requesting compliance with their periodic filing obligations.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on November 12, 2015, through 11:59 p.m. EST on November 25, 2015.

By the Commission.
Jill M. Peterson,
Assistant Secretary.

[FR Doc. 2015-29288 Filed 11-12-15; 4:15 pm]

BILLING CODE 8011-01-P